ENVIRONMENTAL PROTECTION AGENCY

[ER-FRL-6686-2]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in the Federal Register dated April 6, 2007 (72 FR 17156).

Draft EISs

EIS No. 20060469, ERP No. D-FHW-D40338-00, U.S. 301 Project Development, Transportation Improvements from MD State Line to DE-1, South of the Chesapeake and Delaware Canal, New Castle County, DE.

Summary: EPA expressed environmental concerns about wetland impacts and requested additional wetlands mitigation.

Rating EC2.

EIS No. 20070014, ERP No. D-FHW-F40439-WI, WI-15 Expansion, from New London to Greenville, Funding, U.S. Army COE 404 Permit, Outagamie County, WI.

Summary: EPA expressed environmental concerns about wetland and water quality impacts, air toxics, and noise exposure.

Rating EC2.

EIS No. 20070030, ERP No. D-IBR-J28022-00, Red River Valley Water Supply Project, Development and Delivery of a Bulk Water Supply to meet Long-Term Water Needs of the Red River Valley, Implementation, ND and MN.

Summary: EPA expressed environmental concerns about potential impacts of Missouri River Basin depletion and ecological impacts from potential introduction of invasive species. EPA provided recommendations for biota transfer water treatment, adaptive management, and drought contingency measures.

Rating EC1.

EIS No. 20070050, ERP No. D-FRC-G02015-00, East Texas to Mississippi Expansion Project, Construction and Operation of 243.3 miles Natural Gas Pipeline to Transport Natural Gas from Production Fields in eastern Texas to Markets in the Gulf Coast, Midwestern, Northeastern and Southeastern United States.

Summary: EPA does not object to the proposed action, but suggests updating the air quality impact analysis.

Rating LO.

EIS No. 20070052, ERP No. D-NPS-D61059-PA, Valley Forge National Historical Park, General Management Plan, Implementation, King of Prussia, PA.

Summary: EPA expressed environmental concerns about potential adverse impacts of the proposed actions to water quality and wetlands. The Final EIS should detail how the two proposed bridges, removal of dams, potential for mobilization of contaminants in sediments behind the dam, increased stormwater flow and changing forested habitat to meadow will impact already impaired waters and wildlife habitat.

Rating EC2.

EIS No. 20070056, ERP No. D-FHW-G40193-LA, I-49 South Project, from Raceland to the Westbank Expressway Route U.S. 90, Funding, Coast Guard Bridge Permit, U.S. Army COE Section 10 and 404 Permits, Jefferson, Lafourche, and St. Charles Parishes, LA.

Summary: EPA does not object to the proposed action, but requests clarification on some air quality issues.

Rating LO.

EIS No. 20070070, ERP No. DA-AFS-K65283-CA, Empire Vegetation Management Project, Supplemental Information to Clarify Cumulative Effects Analysis, Mount Hough Ranger District, Plumas National Forest, Plumas County, CA.

Summary: EPA does not object to the proposed action, but requests clarification of monitoring and adaptive management issues.

Rating LO.

EIS No. 20060236, ERP No. DS-AFS-L65383-ID, Hidden Cedar Project, Updated Information, Manage Vegetation Conditions and the Transportation System, Idaho Panhandle National Forests, St. Joe Ranger District, Benewah, Latah and Shoshone Counties, ID.

Summary: EPA expressed environmental concerns about the potential adverse of water quality impacts due to the proposed increase in road miles which would occur in watersheds that are already impaired from existing high road densities, as well as past mining and grazing activities.

Rating EC2.

Final EISs

EIS No. 20070024, ERP No. F-AFS-D65033-PA, West Branch of Tionesta Project, Multiple Resource Management, Implementation Bradford Ranger District, Allegheny National Forest, Warren County, PA.

Summary: EPA does not object to the proposed project.

EIS No. 20070074, ERP No. F-SFW-K65493-CA, East Contra Costa County Habitat Conservation Plan and Natural Community Conservation Plan, Implementation, Incidental Take Permit, Cities of Brentwood, Clayton, Oakley and Pittsburg, Contra Costa County, CA.

Summary: EPA's previous concerns have been addressed; therefore, EPA does not object to the proposed action.

EIS No. 20070076, ERP No. F-AFS-F65064-WI, Boulder Project, Timber Harvesting, Vegetation and Road Management, U.S. Army COE Section 404 Permit, Chequamegon-Nicolet National Forest, Lakewood-Laona Ranger District, Oconto and Langlade Counties, WI.

Summary: While the final EIS addressed EPA's request for additional analysis of cumulative impacts, EPA continues to have environmental concerns about the lack of specific habitat information.

EIS No. 20070081, ERP No. F-JUS-G81013-TX, Laredo Detention Facility, Proposed Contractor-Owned/Contractor-Operated Detention Facility, Implementation, Webb County, TX.

Summary: No formal comment letter was sent to the preparing agency.

EIS No. 20070082, ERP No. F-GSA-D81037-VA, Federal Bureau of Investigation (FBI) Central Records Complex, Alternative 4—Sempeles Site, Winchester, Frederick County, VA.

Summary: EPA does not object to the proposed action.

EIS No. 20070090, ERP No. F-AFS-J65462-00, Dakota Prairie Grasslands Noxious Weed Management Project, Implementation, Billings, Slope, Golden Valley, Sioux, Grant, McHenry, Ransom and Richland Counties, ND and Corson, Perkins, and Ziebach Counties, SD.

Summary: No formal comment letter was sent to the preparing agency.

Dated: April 17, 2007.
Robert W. Hargrove,
Director, NEPA Compliance Division, Office of Federal Activities.

[FR Doc. E7-7547 Filed 4-19-07; 8:45 am]

BILLING CODE 6560-50-P